DEPARTMENT OF HEALTH AND HUMAN SERVICES

Substance Abuse and Mental Health Services Administration

Center for Mental Health Services; Notice of Meeting

Pursuant to Pub. L. 92-463, notice is hereby given of the meeting of the Center for Mental Health Services (CMHS) National Advisory Council in September 2004.

A portion of the meeting will be open and will include a roll call, general announcements, Director's and Administrator's Reports, as well as presentations and discussions about Mental Health System Transformation.

Attendance by the public will be limited to space available. Public comments are welcome. Please communicate with the individual listed below as contact to make arrangements to comment or to request special accommodations for persons with disabilities.

The meeting also will include the review, discussion, and evaluation of grant applications. Therefore a portion of the meeting will be closed to the public as determined by the Administrator, SAMHSA, in accordance with title 5 U.S.C. 552b(c) and (6) and 5 U.S.C. App. 2 section 10(d).

Substantive program information, a summary of the meeting, and a roster of Council members may be obtained by accessing the SAMHSA Advisory Committee Web site (http://www.samhsa.gov) or by communicating with the contact whose name and telephone number are listed below. The transcript for the open session will also be available on the SAMHSA Advisory Committee Web site.

Committee Name: Center for Mental Health Services National Advisory Council.

Meeting Date: September 1-2, 2004.

Place: Patuxent Room, Bethesda Hyatt Regency, 1 Bethesda Metro Center, Bethesda, Maryland 20814, 301-657-1234.

Type: Closed: September 1, 2004, 9 a.m.-12 p.m. Open: September 1, 2004, 1:30 p.m.-5 p.m., September 2, 2004, 9 a.m.-12 p.m.

Contact: Dale Kaufman, MPH, MA, Executive Secretary, 5600 Fishers Lane, Parklawn Building, Room 17-C-02, Rockville, Maryland 20857, telephone: (301) 443-2660, and FAX (301) 443-1563, e-mail: dkaufman@samhsa.gov.

Dated: July 23, 2004.
Toian Vaughn,
Committee Management Officer, Substance Abuse and Mental Health Services Administration.

[FR Doc. 04-17334 Filed 7-29-04; 8:45 am]

BILLING CODE 4162-20-P